ENVIRONMENTAL PROTECTION AGENCY

[ER-FRL-9014-2]

Environmental Impact Statements; Notice of Availability

Responsible Agency: Office of Federal Activities, General Information (202) 564-7146 or http://www.epa.gov/compliance/nepa/.

Weekly receipt of Environmental Impact Statements Filed 03/17/2014 Through 03/21/2014 Pursuant to 40 CFR 1506.9.

Notice

Section 309(a) of the Clean Air Act requires that EPA make public its comments on EISs issued by other Federal agencies. EPA's comment letters on EISs are available at: http://www.epa.gov/compliance/nepa/eisdata.html

EIS No. 20140091, Draft EIS, USFS, ID, Crooked River Valley Rehabilitation Project, Comment Period Ends: 05/12/2014, Contact: Jennie Fischer 208-983-4048

EIS No. 20140092, Final EIS, USFS, OR, Ochoco Summit Trail System, Review Period Ends: 04/28/2014, Contact: Marcy Anderson 541-416-6463

EIS No. 20140093, Final EIS, USFS, CA, Blacksmith Ecological Restoration Project, Review Period Ends: 04/28/2014, Contact: Dana Walsh 530-333-5558

EIS No. 20140094, Draft EIS, USFS, MT, North and West Big Hole Allotment Management Plans, Comment Period Ends: 05/12/2014, Contact: Russell Riebe 406-689-3243

EIS No. 20140095, Draft EIS, FHWA, WI, Interstate 43 North-South Freeway Silver Spring Drive to WI 60, Comment Period Ends: 05/12/2014, Contact: George Poirier 608-829-7500

EIS No. 20140096, Draft EIS, FHWA, IL, 75th Street Corridor Improvement Project, Comment Period Ends: 05/12/2014, Contact: Catherine A. Batey, 217-492-4600

EIS No. 20140097, Draft EIS, OSM, NM, Four Corners Power Plant and Navajo Mine Energy Project, Comment Period Ends: 05/27/2014, Contact: Marcelo Calle 303-293-5035

EIS No. 20140098, Draft EIS, USFS, OR, Lower Imnaha Allotments Rangeland Analysis, Comment Period Ends: 05/12/2014, Contact: Jamie McCormack 541-426-5547

EIS No. 20140099, Final EIS, FHWA, MT, Billings Bypass Improvements, Review Period Ends: 04/28/2014, Contact: Brian Hasselbach, 406-441-3908

Amended Notices

EIS No. 20140078, Draft EIS, BLM, ID, Proposed Modification to the Thompson Creek Mine Plan of Operations, Section 404 Clean Water Act Permit Application, Public Land Disposal, and Draft Resource Management Plan Amendment, Comment Period Ends: 06/18/2014, Contact: Ken Gardner 208-879-6210

Revision to the FR Notice Published 03/21/2014; Correction to EIS Title Name and Comment Period Ends should read 06/18/2014

Dated: March 25, 2014
Dawn Roberts,
Management Analyst, Office of Federal Activities.

[FR Doc. 2014-06968 Filed 3-27-14; 8:45 am]

BILLING CODE 6560-50-P